NATIONAL ARCHIVES AND RECORDS ADMINISTRATION

[NARA-2014-004]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 26, 2013. Once the appraisal of the records is completed, NARA will send a copy of the schedule. NARA staff usually prepare appraisal memoranda that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency that submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously-approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the government and of private people directly affected by the government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-10-99, 1 item, 1 temporary item). Master files of an electronic information system used to order internal forms and publications.

2. Department of the Army, Agency-wide (N1-AU-11-25, 1 item, 1 temporary item). Master files of an electronic information system used to control inventories of supplies.

3. Department of Energy, Agency-wide (DAA-0434-2013-0001, 4 items, 4 temporary items). Records relating to the compensation of individuals for illnesses caused by exposure to radiation, including personnel claim records, working files, control files, and administrative files.

4. Department of Health and Human Services, Centers for Medicare & Medicaid Services (DAA-0440-2013-0011, 2 items, 2 temporary items). Self-attestations and decision letters for provider-based healthcare entities.

5. Department of Justice, Community Relations Service (DAA-0379-2013-0001, 11 items, 5 temporary items). Records include files of the Deputy Director, Associate Director, and Regional Director; media affairs files; conference files; work plans; and non-significant regional case files. Proposed for permanent retention are agency policy files, history files including photographs and video recordings, significant regional case files, and records of the Director's special initiatives.

6. Department of Justice, Drug Enforcement Administration (N1-170-12-3, 1 item, 1 temporary item). Accountable personal property files.

7. Department of the Navy, United States Marine Corps (DAA-0127-2013-0007, 1 item, 1 temporary item). Master files of an electronic information system used to control access to Marine Corps installations.

8. Department of the Navy, United States Marine Corps (DAA-0127-2013-0020, 1 item, 1 temporary item). Master files of an electronic information system used to manage the food and hospitality services of the Marine Corps.

9. Department of State, Bureau of Near Eastern Affairs (DAA-0059-2012-0010, 8 items, 7 temporary items). Records of the Middle East Partnership Initiative including correspondence, grant application and awarding records, and planning records. Proposed for permanent retention are published fact sheets.

10. Commission on Long Term Care, Agency-wide (N1-220-14-1, 6 items, 3 temporary items). Management and operation records including working files, financial records, and Web site design records. Proposed for permanent retention are mission-related records including the final report, Web site, and video recordings of hearings.

11. Consumer Financial Protection Bureau, Office of Enforcement (N1-587-12-8, 9 items, 8 temporary items). Investigation, action, and referral records. Proposed for permanent retention are significant enforcement actions.

Dated: November 20, 2013.
Laurence Brewer,
Director, National Records Management Program.

[FR Doc. 2013-28318 Filed 11-25-13; 8:45 am]

BILLING CODE 7515-01-P